DEPARTMENT OF COMMERCE

National Oceanic and Atmospheric Administration

RIN 0648-XW82

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 104th Scientific and Statistical Committee (SSC) and 148th Council meetings to take recommendations and action on fishery management issues in the Western Pacific Region.

DATES: The 104th SSC Meeting will be held on June 22-24 2010 in Honolulu, and the 148th Council meeting will be held on June 28-July 1, 2010 in Honolulu. For specific times and agendas, see SUPPLEMENTARY INFORMATION.

ADDRESSES: The 104th SSC will be held at the New Otani Hotel, 2863 Kalakaua Avenue, Honolulu, HI 96815.

The 148th Council Standing Committee meeting will be held at Council office on June 28, 2010, and the full Council meeting between June 29 and July 1, 2010, at the Laniakea YWCA-Fuller Hall, 1040 Richards Street, Honolulu, HI 96813.

FOR FURTHER INFORMATION CONTACT: Kitty M. Simonds, Executive Director; telephone: (808) 522-8220.

SUPPLEMENTARY INFORMATION: In addition to the agenda items listed here, the SSC and Council will hear recommendations from Council advisory groups. Public comment periods will be provided throughout the agendas. The order in which agenda items are addressed may change. The meetings will run as late as necessary to complete scheduled business.

Schedule and Agenda for 104th SSC Meeting:

Tuesday, June 22, 2010, 8:30 a.m.

1. Introductions

2. Approval of Draft Agenda and Assignment of Rapporteurs

3. Status of the 103rd SSC Meeting Recommendations

4. Report from the Pacific Islands Fisheries Science Center Director

5. Program Planning

A. Annual Catch Limits (ACLs) Process (Action)

1. Tiers Working Group

2. Ecosystem Components Working Group

3. Only Reliable Catch Series (ORCS) Data Analysis

B. Management Measures for Aquaculture in the Western Pacific (Action)

C. Cooperative Research Priorities (Action)

D. Hawaii Longline Video Monitoring Project

E. National Habitat & Stock Assessment Workshop

F. Status of Stocks Report

G. Public Comment

H. SSC Discussion and Recommendations

6. Insular Fisheries

A. Update on Potential Management Measures for Fishing in the Marine National Monuments (Action)

B. American Samoa Archipelago

1. American Samoa Advisory Panel (AP), Plan Team (PT) & Regional Ecosystem Advisory Committee (REAC) Reports

C. Hawaii Archipelago

1. Review of Essential Fish Habitat (EFH) and Habitat of Particular Concern (HAPC) for Hawaiian Archipelago Bottomfish

2. Draft Amendment for Refining EFH and HAPC for Main Hawaiian Islands (MHI) Bottomfish (Action)

3. Report on 2009/10 MHI Bottomfish Fishery Performance

4. Total Allowable Catch (TAC) for MHI Bottomfish (Action)

5. Hawaii Archipelagic PT and REAC Reports

D. Public Comment

E. SSC Discussion and Recommendations

Wednesday, June 23, 2010, 8:30 a.m.

7. Pelagic Fisheries

A. Hawaii Longline Bigeye Tuna Management Under a Catch Limit (Action)

B. Options to Modify Hawaii Deep Set Tuna Longline Fishery Swordfish Trip Catch Limit (Action)

C. American Samoa Longline Limited Entry Program Modifications (Action)

D. Territory Fisheries Development (Action)

E. Recommendations of WCPFC Transshipment Requirements (Action)

F. Hawaii Longline Bigeye Tuna Catch Shares Update

G. American Samoa and Hawaii Longline Quarterly Reports

H. Bigeye and Yellowfin Tuna Catch Limit Monitoring

I. Inter-American Tropical Tuna Commission (IATTC) External Review of Bigeye Stock Assessment

J. International Fisheries/Meetings

1. Kobe Bycatch & Management Meetings

2. Coral Triangle Fishers Forum

3. Secretariat of the Pacific Community Tagging and Stock Assessment Workshops

4. Fifth International Fishers Forum

K. Pelagic Plan Team Recommendations

L. Public Comment

M. SSC Discussion and Recommendations

8. Protected Species

A. False Killer Whale Take Reduction Team Meeting Report

B. Cetacean Survey Methodology

C. Updates on Endangered Species Act Issues (83 Species of Coral, Bumphead Parrotfish, Sea Turtles, and False Killer Whale)

D. American Samoa Longline Amendment Consultation

E. Public Comment

F. SSC Discussion and Recommendations

Thursday, June 24, 2010, 8:30 a.m.

9. Other Business

A. 105th SSC Meeting

10. Summary of SSC Recommendations to the Council

148th Council Meeting, Monday, June 28, 2010, Council office

Executive and Budget Standing Committee10 a.m. - 12 noon

Pelagics and International Fisheries Standing Committee 1:30 p.m. - 4 p.m.

148th Council Meeting, Tuesday, June 29, 2010, Laniakea YWCA-Fuller Hall

9 a.m. - 5 p.m.

1. Introductions

2. Approval of Agenda

3. Approval of the 147th Meeting Minutes

4. Executive Director's Report

5. Agency Reports

A. National Marine Fisheries Service (NMFS)

1. Pacific Islands Regional Office (PIRO)

2. Pacific Islands Fisheries Science Center (PIFSC)

B. NOAA Regional Counsel

C. U.S. Fish and Wildlife Service

D. Enforcement

1. U.S. Coast Guard

2. NMFS Office for Law Enforcement

3. NOAA General Counsel for Enforcement and Litigation

E. National Marine Sanctuaries Program

6. Hawaii Archipelago

A. Moku Pepa

B. Legislative Report

C. Enforcement Issues

D. Action Items

1. Recommendations on Refining Bottomfish Essential Fish Habitat for the Hawaii Archipelago

a. Review of New Habitat and Life History Information

b. Draft Alternatives for Hawaii Bottomfish Essential Fish Habitat/Habitat Areas of Particular Concern

2. Recommendations on the 2010/11 MHI Bottomfish TAC

a. Review of MHI Bottomfish Fishery Performance

b. 2010/11 TAC Determination

3. Adjustment to Northwestern Hawaiian islands (NWHI) Mau and Hoomalu Zone Boundaries for Consistency with NWHI Monument

E. Community Activities and Issues

1. Hawaii Community Fishery Workshop Report

F. Hawaii Advisory Panel Recommendations

G. Hawaii Plan Team Recommendations

H. Hawaii Regional Ecosystem Advisory Committee (REAC) Recommendations

I. SSC Recommendations

J. Public Comment

K. Council Discussion and Action

7. Program Planning and Research

A. Action Items

1. Recommendations on a Process for Establishing Annual Catch Limits

2. Recommendations on Management Measures for Aquaculture in the Western Pacific

3. Recommendations on Options for Exemptions from Federal Fishery Permits

4. Recommendations on Cooperative Research Priorities

B. Recreational Fishery

1. NOAA Recreational Initiative

2. Report of the NOAA Recreational Fishing Summit

8. Public Comment on Non-Agenda Items

6 p.m. - 9 p.m. Fishers Forum

Seafood: Past, Present and Future

Wednesday, June 30, 2010, 8 a.m. - 5 p.m.

7. Program Planning and Research (continued)

C. Fisheries Monitoring and Compliance

1. Report on Video Monitoring Projects

a. Hawaii Longline Video Monitoring

b. Australian Live Video Monitoring

2. Harbor Wing Unmanned, At-sea Surveillance

3. Vessel Monitoring System Policy

D. Marine Spatial Planning Update

E. Status of Stocks Report

F. Hawaii, Regional, National & International Education and Outreach Initiatives

G. Community Demonstration Project Program Advisory Panel Recommendations

H. Program Planning Recommendations from Council Advisory Groups

I. SSC Recommendations

J. Public Hearing

K. Council Discussion and Action

9. Pelagic & International Fisheries

A. Action Items

1. Recommendations on Hawaii Longline Bigeye Tuna Management Under a Catch Limit

2. Recommendations on Options to Modify the Hawaii Deep-set Tuna Longline Swordfish Trip Catch Limit

3. Recommendations on Modifications to the American Samoa Longline Limited Entry Program

4. Recommendations on Territory Fishery Development

5. Recommendations on Western & Central Pacific Fisheries Commission Transshipment Requirements

B. Inter-American Tropical Tuna Commission (IATTC) Pacific Bigeye Tuna Stock Assessment

C. International Fisheries

1. Fifth International Fishers Forum

2. Western Central Pacific Fisheries Commission

3. Kobe Bycatch Meeting

4. Coral Reef Triangle Bycatch Meeting

D. Pacific Pelagic Advisory Panel Recommendations

E. Pelagic Plan Team Recommendations

F. SSC Recommendations

G. Pelagics Standing Committee Recommendations

H. Public Hearing

I. Council Discussion and Action

10. Protected Species

A. False Killer Whale Take Reduction Team Meeting Report

B. Sea Turtle Advisory Committee Report

C. Cetacean Survey Methodology

D. Updates on Endangered Species Act Issues (83 Species of Coral, Bumphead Parrotfish, Sea Turtles, and False Killer Whale)

E. American Samoa Longline Amendment Consultation

F. SSC Recommendations

G. Public Comment

H. Council Discussion and Action

11. Marianas Archipelago

A. Arongo Flaeey

B. Isla Informe

C. Legislative Report

D. Enforcement Issues

E. Action Items

1. Recommendations on Fishery Management Measures for the Marianas Trench Marine National Monument

F. Marianas Bottomfish Survey Report

G. Community Activities and Issues

H. Update on Military Activities

I. Education and Outreach Initiatives

J. SSC Recommendations

K. Public Hearing

L. Council Discussion and Action

Thursday, July 1, 2010, 8 a.m. - 1 p.m.

12. American Samoa Archipelago

A. Motu Lipoti

B. Fono Report

C. Enforcement Issues

D. Action Items

1. Recommendations on Management Measures for Non-Commercial Fishing in the Rose Atoll and Pacific Remote Islands Marine National Monuments

E. Community Activities and Issues

1. Report of Fishery Development

2. Report on Disaster Relief

F. Education and Outreach Initiatives

G. American Samoa Advisory Panel Recommendations

H. American Samoa Plan Team Recommendations

I. American Samoa REAC Recommendations

J. SSC Recommendations

K. Public Hearing

L. Council Discussion and Action

13. Administrative Matters

A. Financial Reports

B. Administrative Reports

C. Standard Operating Procedures and Practices Review and Changes

D. Council Family Changes

E. Meetings and Workshops

F. Other Business

G. Standing Committee Recommendations

H. Public Comment

I. Council Discussion and Action

14. Other Business

Although other non-emergency issues not contained in this agenda may come before this Council for discussion, those issues may not be the subjects of formal action during these meetings. Action will be restricted to those issues specifically listed in this notice and any issues arising after publication of this notice that require emergency action under section 305(c) of the Magnuson-Stevens Act, provided that the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: June 2, 2010.
William D. Chappell,
Acting Director, Office of Sustainable Fisheries, National Marine Fisheries Service.

[FR Doc. 2010-13566 Filed 6-7-10; 8:45 am]

BILLING CODE 3510-22-S